DEPARTMENT OF TRANSPORTATION

Federal Aviation Administration

14 CFR Part 39

[Docket No. FAA-2004-19751; Directorate Identifier 2002-NM-59-AD; Amendment 39-14001; AD 2005-05-12]

RIN 2120-AA64

Airworthiness Directives; BAE Systems (Operations) Limited (Jetstream) Model 4101 Airplanes

AGENCY: Federal Aviation Administration (FAA), Department of Transportation (DOT).

ACTION: Final rule.

SUMMARY: The FAA is adopting a new airworthiness directive (AD) for all BAE Systems (Operations) Limited (Jetstream) Model 4101 airplanes. This AD requires repetitive detailed inspections of the aft fuselage frames for any discrepancies, and any applicable corrective actions. This AD is prompted by reports of corrosion found on the aft fuselage frames due to the ingress of water or liquid. We are issuing this AD to detect and correct corrosion of the aft fuselage frames, which could result in reduced structural integrity of the fuselage.

DATES: This AD becomes effective April 15, 2005.

The incorporation by reference of certain publications listed in the AD is approved by the Director of the Federal Register as of April 15, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW, room PL-401, Washington, DC. This docket number is FAA-2004-19751; the directorate identifier for this docket is 2002-NM-59-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The FAA proposed to amend 14 CFR Part 39 with an AD for all BAE Systems (Operations) Limited (Jetstream) Model 4101 airplanes. That action, published in the Federal Register on December 1, 2004 (69 FR 69834), proposed to require repetitive detailed inspections of the aft fuselage frames for any discrepancies, and any applicable corrective actions.

Comments

We provided the public the opportunity to participate in the development of this AD. We have considered the single comment that was submitted on the proposed AD.

Request To Revise Discussion Section

The commenter requests that we revise the Discussion section of the proposed AD. The commenter suggests that the sentence that describes the area where corrosion may occur should read, “This corrosion occurs on frame areas below floor panel level, between frames 434 and 555, particularly in the vicinity of the toilet, galley, and baggage door due to the ingress of water or liquid.” The commenter's suggestion points out that, though corrosion particularly occurs in the vicinity of the toilet, galley, and baggage door, it may also occur over a wider area.

We acknowledge that the commenter's suggestion is accurate. However, the Discussion section is not restated in the final rule. Thus, we have made no change to the final rule.

Explanation of Change to This AD

We have revised the applicability statement in paragraph (c) of this AD to identify model designations as published in the most recent type certificate data sheet for the affected models.

Conclusion

We have carefully reviewed the available data, including the comment that was submitted, and determined that air safety and the public interest require adopting the AD with the change described previously. We have determined that this change will neither increase the economic burden on any operator nor increase the scope of the AD.

Costs of Compliance

This AD will affect about 57 airplanes of U.S. registry. The required inspections will take about 30 work hours per airplane, at an average labor rate of $65 per work hour. Based on these figures, the estimated cost of this AD for U.S. operators is $111,150, or $1,950 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-12 BAE Systems (Operations) Limited (Formerly British Aerospace Regional Aircraft): Amendment 39-14001. Docket No. FAA-2004-19751; Directorate Identifier 2002-NM-59-AD.

Effective Date

(a) This AD becomes effective April 15, 2005.

Affected ADs

(b) None.

Applicability

(c) This AD applies to all BAE Systems (Operations) Limited (Formerly British Aerospace Regional Aircraft) Model 4101 airplanes, certificated in any category.

Unsafe Condition

(d) This AD was prompted by reports of corrosion found on the aft fuselage frames due to the ingress of water or liquid. We are issuing this AD to detect and correct corrosion of the aft fuselage frames, which could result in reduced structural integrity of the fuselage.

Compliance

(e) You are responsible for having the actions required by this AD performed within the compliance times specified, unless the actions have already been done.

Inspection and Corrective Actions

(f) Within 12 months after the effective date of this AD, do a detailed inspection of the aft fuselage frames for any discrepancies i.e., corrosion, soft spots, and suspected corrosion), and any applicable corrective actions, in accordance with the Accomplishment Instructions of BAE Systems (Operations) Limited Service Bulletin J41-53-051, dated January 25, 2002; or Revision 1, dated May 2, 2003; except as provided by paragraphs (g) and (i) of this AD. Do any applicable corrective action before further flight.

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

(g) If any corrosion outside the limits defined in the service bulletin is detected: Before further flight, repair the corrosion according to a method approved by either the Manager, International Branch, ANM-116, Transport Airplane Directorate, FAA; or the Civil Aviation Authority (or its delegated agent).

Repetitive Inspection

(h) Repeat the inspection and do applicable corrective actions required by paragraph (f) of this AD at intervals not to exceed 24 months.

No Reporting

(i) Although the service bulletins referenced in this AD specify to submit inspection reports to the manufacturer, this AD does not include that requirement.

Alternative Methods of Compliance (AMOCs)

(j) The Manager, International Branch, ANM-116, has the authority to approve AMOCs for this AD, if requested in accordance with the procedures found in 14 CFR 39.19.

Related Information

(k) British airworthiness directive 003-01-2002 also addresses the subject of this AD.

Material Incorporated by Reference

(l) You must use BAE Systems (Operations) Limited Service Bulletin J41-53-051, dated January 25, 2002; or BAE Systems (Operations) Limited Service Bulletin J41-53-051, Revision 1, dated May 2, 2003; to perform the actions that are required by this AD, unless the AD specifies otherwise. The Director of the Federal Register approves the incorporation by reference of these documents in accordance with 5 U.S.C. 552(a) and 1 CFR part 51. For copies of the service information, contact British Aerospace Regional Aircraft American Support, 13850 Mclearen Road, Herndon, Virginia 20171. For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on February 28, 2005.
Ali Bahrami,
Manager, Transport Airplane Directorate, Aircraft Certification Service.

[FR Doc. 05-4414 Filed 3-10-05; 8:45 am]

BILLING CODE 4910-13-P